DEPARTMENT OF AGRICULTURE

Grain Inspection, Packers and Stockyards Administration

[04-03-S]

Designation for the Owensboro (KY), Bloomington (IL), Iowa Falls (IA), Minnesota, Fargo (ND), Grand Forks (ND), and Plainview (TX) Areas

AGENCY: Grain Inspection, Packers and Stockyards Administration, USDA.

ACTION: Notice.

SUMMARY: Grain Inspection, Packers and Stockyards Administration (GIPSA) announces designation of the following organizations to provide official services under the United States Grain Standards Act, as amended (Act): J. W. Barton Grain Inspection Service, Inc. (Barton); Central Illinois Grain Inspection, Inc. (Central Illinois); Central Iowa Grain Inspection Service, Inc. (Central Iowa); Minnesota Department of Agriculture (Minnesota); North Dakota Grain Inspection Service, Inc. (North Dakota); Northern Plains Grain Inspection Service, Inc. (Northern Plains); and Plainview Grain Inspection and Weighing Service, Inc. (Plainview).

EFFECTIVE DATE: April 1, 2005.

ADDRESSES: USDA, GIPSA, Janet M. Hart, Chief, Review Branch, Compliance Division, STOP 3604, Room 1647-S, 1400 Independence Avenue, SW., Washington, DC 20250-3604.

FOR FURTHER INFORMATION CONTACT: Janet M. Hart at 202-720-8525, e-mail Janet.M.Hart@usda.gov.

SUPPLEMENTARY INFORMATION: This action has been reviewed and determined not to be a rule or regulation as defined in Executive Order 12866 and Departmental Regulation 1512-1; therefore, the Executive Order and Departmental Regulation do not apply to this action.

In the September 1, 2004, Federal Register (69 FR 53404), GIPSA asked persons interested in providing official services in the geographic areas assigned to the official agencies named above to submit an application for designation. Applications were due by October 1, 2004.

Barton, Central Illinois, Central Iowa, North Dakota, Northern Plains, and Plainview were the sole applicants for designation to provide official services in the entire area currently assigned to them, so GIPSA did not ask for additional comments on them.

There were three applicants for the Minnesota area: Minnesota, and Sioux City Inspection and Weighing Service Company (Sioux City), both currently designated official agencies; and Kathleen Duea proposing to do business as Southern Minnesota Grain Inspection (Southern Minnesota). Minnesota applied for designation to provide official services in the entire area currently assigned to them. Sioux City applied for all or part of the following Minnesota Counties: Brown, Cottonwood, Jackson, Lincoln, Lyon, Martin, Murray, Nobles, Pipestone, Redwood, Renville, Rock, Watonwan, and Yellow Medicine. Southern Minnesota applied for all or part of the area currently assigned to Minnesota, and specified all or part of the following Minnesota Counties: Blue Earth, Cottonwood, Faribault, Jackson, Martin, Murray, Nobles, and Watonwan.

GIPSA asked for comments on the applicants for providing service in the Minnesota area in the December 1, 2004, Federal Register (69 FR 69884). Comments were due by January 3, 2005. GIPSA received one favorable comment supporting Sioux City from a customer in Minnesota.

GIPSA evaluated all available information regarding the designation criteria in section 7(f)(l)(A) of the Act and, according to section 7(f)(l)(B), determined that Barton, Central Illinois, Central Iowa, North Dakota, Northern Plains, and Plainview are able to provide official services in the geographic areas specified in the September 1, 2004, Federal Register, for which they applied; and that Minnesota is better able to provide official services in the geographic area specified in the September 1, 2004, Federal Register, for which they applied. These designation actions to provide official inspection services are effective April 1, 2005, and terminate March 31, 2008, for Barton, Central Illinois, Central Iowa, North Dakota, Northern Plains, and Plainview. Minnesota is designated for 18 months only, effective April 1, 2005, and terminating September 30, 2006, to allow GIPSA to further evaluate their program. Interested persons may obtain official services by calling the telephone numbers listed below.

Official agency | Headquarters location and telephone | Designation start-end
Barton | Owensboro, KY 270-683-0616; Additional location: Jeffersonville, IN | 4/1/2005-3/31/2008
Central Illinois | Bloomington, IN 309-827-7121; Additional location: Pekin, IL | 4/1/2005-3/31/2008
Central Iowa | Iowa Falls, IA 641-648-3467; Additional location: Des Moines | 4/1/2005-3/31/2008
Minnesota | St. Paul, MN 612-341-7190; Additional locations: Breckenridge, Duluth, Granite Falls, Mankato, Morris, Windom | 4/1/2005-9/30/2006
North Dakota | Fargo, ND 701-293-7420; Additional locations: Ayr, Cahokia, Enderlin, Hillsboro, Taylor, Teutopolis, Wayne City | 4/1/2005-3/31/2008
Northern Plains | Grand Forks, ND 701-772-2414; Additional location: Devils Lake | 4/1/2005-3/31/2008
Plainview | Plainview, TX 806-293-1364 | 4/1/2005-3/31/2008

Authority: Pub. L. 94-582, 90 Stat. 2867, as amended (7 U.S.C. 71 et seq.).

David R. Shipman,
Deputy Administrator, Grain Inspection, Packers and Stockyards Administration.

[FR Doc. 05-3844 Filed 2-28-05; 8:45 am]

BILLING CODE 3410-EN-P